NUCLEAR REGULATORY COMMISSION

[Docket Nos. 50-269, 50-270, and 50-287]

Duke Power Company LLC ; Notice of Withdrawal of Application for Amendment to Facility Operating License

The U.S. Nuclear Regulatory Commission (the Commission) has granted the request of Duke Power Company LLC (the licensee) to withdraw its September 15, 2005, application for proposed amendment to Facility Operating License Nos. DPR-38, DPR-47, and DPR-55 for Oconee Nuclear Station, Units 1, 2, and 3, located in Oconee County.

The proposed amendment would have revised the Technical Specifications (TSs) to relocate the pressure temperature limit curves of TS 3.4.3 to the Selected Licensee Commitments Manual and TS Section 5.6.9 to reflect the requirements of Generic Letter 96-09 for this relocation.

The Commission had previously issued a Notice of Consideration of Issuance of Amendment published in the Federal Register on September 21, 2005 (70 FR 55425). However, by letter dated September 26, 2006, the licensee withdrew the proposed change.

For further details with respect to this action, see the application for amendment dated September 15, 2005, and the licensee's letter dated September 26, 2006, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 17th day of October, 2006.
For the Nuclear Regulatory Commission.
Leonard N. Olshan,
Project Manager, Plant Licensing Branch II-1, Division of Operating Reactor Licensing, Office of Nuclear Reactor Regulation.

[FR Doc. E6-18241 Filed 10-30-06; 8:45 am]

BILLING CODE 7590-01-P